DEPARTMENT OF THE TREASURY

Community Development Financial Institutions Fund

Funding Opportunity Title: Notice of Funds Availability (NOFA) Inviting Applications for the Community Development Financial Institutions (CDFI) Program FY 2011 Funding Round (the FY 2011 Funding Round)

Announcement Type: Announcement of funding opportunity.

Catalog of Federal Domestic Assistance (CFDA) Number: 21.020.

DATES: Applications for Financial Assistance (FA) or Technical Assistance (TA) awards through the FY 2011 Funding Round must be received by midnight, Eastern Time (ET), November 19, 2010.

Executive Summary: Subject to funding availability, this NOFA is issued in connection with the FY 2011 Funding Round. The Community Development Financial Institutions (CDFI) Fund administers the CDFI Program.

I. Funding Opportunity Description

A. Award Requirements

Through the CDFI Program, the CDFI Fund provides FA awards and TA grants. FA awards are made to certified CDFIs that meet the requirements set forth in this NOFA, subject to funding availability. In FY 2011, the CDFI Fund will also make FA awards under the Healthy Food Financing Initiative (HFFI) to certified CDFIs that meet the requirements set forth in this NOFA, subject to funding availability. TA grants are made to certified CDFIs and entities proposing to become certified that complete and submit Part III of the CDFI Program funding application and meet the requirements set forth in this NOFA, subject to funding availability.

B. Program Regulations

The regulations governing the CDFI Program are found at 12 CFR Parts 1805 and 1815 (the Regulations) and provide guidance on evaluation criteria and other requirements of the CDFI Program. Detailed application content requirements are found in the CDFI Program application and related materials. Each capitalized term in this NOFA is more fully defined in this NOFA, the Regulations, or the application, and the CDFI Fund encourages Applicants to review the Regulations in addition to this NOFA.

C. The CDFI Fund reserves the right to fund, in whole or in part, any, all, or none of the applications submitted in response to this NOFA. The CDFI Fund reserves the right to reallocate funds from the amount that is anticipated to be available under this NOFA to other CDFI Fund programs, particularly if the CDFI Fund determines that the number of awards made under this NOFA is fewer than projected. In addition, the CDFI Fund invites applications that propose innovative Financial Products and Financial Services to address the current difficult economic conditions of our nation.

II. Award Information

A. Funding Availability

1. FY 2011 Funding Round: Subject to funding availability, the CDFI Fund expects to award, through this NOFA, approximately $135 million in appropriated funds in the following ways: (i) $25 million in FA awards to Category I/SECA Applicants; (ii) $82 million in FA awards to Category II/Core Applicants; (iii) $25 million in FA awards to HFFI Applicants; and (vi) $3 million in TA grants to TA Applicants. The CDFI Fund reserves the right to award more or less than the amounts cited above in each category in the FY 2011 Funding Round, provided that the funds are available and the CDFI Fund deems it appropriate.

2. Availability of Funds for the FY 2011 Funding Round: Funds for the FY 2011 Funding Round have not yet been appropriated. If funds are not appropriated, there will not be a FY 2011 Funding Round. If funds are appropriated, the amount of such funds may be greater or less than the amounts set forth above. If funds for the FY 2011 Funding Round for the Native American CDFI Assistance (NACA) Program are not appropriated, entities eligible to apply for CDFI Program funds that would have applied for NACA Program funding, are encouraged to apply for CDFI Program funds through this NOFA.

B. Types of Awards

An Applicant may submit an application for either: (i) A FA award (including a HFFI-FA award) or (ii) TA grant. Applicants applying for HFFI-FA awards must apply for both a FA award (by submitting Part II of the application) and an HFFI-FA award by submitting a HFFI questionnaire which will be sent to only those applicants indicating they are interested in applying for HFFI funding. The CDFI Fund will send the HFFI questionnaire to such applicants no later than December 1, 2010. The CDFI Fund reserves the right to award such applicants a FA award, a HFFI-FA award, both a FA and HFFI-FA award, or no award.

1. FA Awards: FA awards provide flexible financial support to CDFIs so they may achieve the strategies outlined in their Comprehensive Business Plans. FA awards can be used in the following five categories: (i) Financial Products; (ii) Financial Services; (iii) Development Services; (iv) Loan Loss Reserves and Capital Reserves; and/or (v) Operations. For purposes of this NOFA, the five categories mean:

Table 1—Five Categories of FA
(i) Financial Products | Loans, grants, equity investments, and similar financing activities, including the purchase of loans that the Applicant originates and the provision of loan guarantees, in the Applicant's Target Market, or for related purposes that the CDFI Fund deems appropriate (including administrative funds used to carry out Financial Products).
(ii) Financial Services | Checking and savings accounts, certified checks, automated teller machines services, deposit taking, remittances, safe deposit box services, and other similar services (including administrative funds used to carry out Financial Services).
(iii) Development Services | Activities that promote community development and help the Applicant provide its Financial Products and Financial Services, including financial or credit counseling, housing and homeownership counseling (pre- and post-), self-employment technical assistance, entrepreneurship training, and financial management skill-building (including administrative funds used to carry out Development Services).
(iv) Loan Loss Reserves | Funds set aside in the form of cash reserves, or through accounting-based accrual reserves, to cover losses on loans, accounts, and notes receivable made in the Target Market, or for related purposes that the CDFI Fund deems appropriate (including administrative funds used to carry out Loan Loss Reserves).
(v) Capital Reserves | Funds set aside as reserves to support the Applicant's ability to leverage other capital, for such purposes as increasing its net assets or serving the financing needs of its Target Market, or for related purposes that the CDFI Fund deems appropriate (including administrative funds used to carry out Capital Reserves).
(vi) Operations | Funds used to carry out the Comprehensive Business Plan, and/or for related purposes the CDFI Fund deems appropriate, that are not used to carry out or administer any of the foregoing eligible FA uses.

The CDFI Fund may provide FA awards in the form of equity investments (including secondary capital in the case of certain Insured Credit Unions), grants, loans, deposits, credit union shares, or any combination thereof. The CDFI Fund reserves the right, in its sole discretion, to provide a FA award in a form and amount other than that which the Applicant requests; however, the award amount will not exceed the Applicant's award request as stated in its application. FA awards must be used to support the Applicant's activities; FA awards cannot be used to support the activities of, or otherwise be passed through, transferred, or co-awarded to, third-party entities, whether Affiliates, Subsidiaries, or others.

2. Healthy Food Financing Initiative (HFFI):

(a) Overview. The HFFI represents the Federal government's first coordinated step to eliminate food deserts—urban and rural areas in the United States with limited access to affordable and nutritious food, particularly areas composed of predominantly lower-income neighborhoods and communities—by promoting a wide range of interventions that expand the supply of and demand for nutritious foods, including increasing the distribution of agricultural products; developing and equipping grocery stores and strengthening the producer-to-consumer relationship. Importantly, the HFFI also seeks to support the elimination of food deserts in the context of the broader neighborhood revitalization efforts of a community.

In addition to the CDFI Program, the HFFI includes: (i) The New Markets Tax Credit (NMTC) Program, also administered by the CDFI Fund; (ii) the Community and Economic Development (CED) Program, which the Department of Health and Human Services (HHS) administers; and (iii) several programs that the Department of Agriculture (USDA) administers including, among others, the Business and Industry (B&I) Program and the Intermediary Relending Program (IRP).

Each of the above-listed programs provides a unique mechanism to support initiatives aimed at increasing access to healthy food. When these programs are combined, public dollars can act far more effectively as a market catalyst by providing the full range of financing to local actors—a key step to addressing the problem of limited access to affordable and nutritious food. Instead of approaching this problem through separate agency and program silos, the HFFI will use a collaborative approach involving the resources of all three agencies.

Together, USDA, Treasury and HHS have created the Healthy Food Financing Working Group (Working Group), comprising senior policy officials and program staff from each agency. USDA chairs the HFFI Working Group and will coordinate the solicitations, applications, review and award processes, and public events, as well as mechanisms to track annual investment performance to clearly demonstrate progress toward eliminating food deserts in seven years and other stated HFFI goals. Departments will review applications separately, but incorporate HFFI-specific criteria into the selection process to ensure agencies evaluate applications using common standards, such as community need, quality of strategies, and capacity to execute plans. While each agency will retain the authority to make final funding decisions for its programs, participating agencies will consult with each other during the review process and prior to HFFI awards being made under any given program. In addition, where appropriate and consistent with existing statutes, special funding consideration will be given to organizations intending to use (either directly or through partnerships) multiple sources of HFFI funding. In this manner, a community can benefit from tax credits, grants, loans, guarantees, and technical assistance for a project or suite of projects that collectively address the goals of this initiative. This working group will also seek to coordinate with the Administration's Neighborhood Revitalization Working Group (which includes HUD, ED, HHS, DOJ, and Treasury) in an effort to help amplify the neighborhood and revitalization connections that can be derived from HFFI activities. For more information about the Neighborhood Revitalization Working Group, please visit the following Web site: http://www.whitehouse.gov/sites/default/files/nri_description.pdf.

The HFFI has specific outcome targets—the most important of which is measurably reducing the number of food deserts through a concerted, multi-year, performance-driven effort. In addition HFFI is part of a larger effort to create quality jobs and promote comprehensive community development strategies to revitalize distressed neighborhoods into healthy and vibrant communities of opportunity. As such, HFFI should be viewed as a resource that communities can use to help implement a key element of their broader neighborhood revitalization strategies—namely, access to healthy food. Applicants are encouraged to consider and pursue linkages not only to other HFFI component programs but also to other community development programs in areas such as housing, education, economic development, public safety and access to health services.

Agencies will stay engaged with HFFI awardees as projects move forward. The Working Group will develop reporting requirements specifically for HFFI awardees that will chart the annual progress awardees have made toward achieving the goal of eliminating food deserts in seven years, and other key data points for end outcomes (such as access, job creation and quality, commodity sales, and community health) as well as interim ones (such as amount of funding leveraged and business performance).

(b) HFFI-FA Awards. In FY 2011, subject to appropriations, the CDFI Fund plans to award up to $25 million of FA awards through the HFFI. The CDFI Fund expects to make HFFI-FA awards of up to $5 million or larger to certified CDFIs that submit and complete Parts II and a HFFI questionnaire, which will be sent to only those applicants indicating on their FY 2011 FA application that they will be applying for an HFFI award. The CDFI Fund reserves the right to make awards less than or greater than $5 million based upon the questionnaires received and the funds available. The HFFI questionnaire will be sent to those applicants on or about December 1, 2010. The questionnaire will have a series of questions and responses will be limited to a specific page length. The maximum amount per award will depend on Congressional appropriations, as well as authorization to exceed award caps as described in Section III. B.1. of this NOFA.

HFFI Applicants will be eligible for a HFFI-FA award for this initiative or a combination of a FA award and a HFFI-FA award. HFFI Applicants must receive a minimum score in Part II of the CDFI Program Application in order to be considered for an HFFI award, and then will be rated and scored separately based upon the HFFI questionnaire responses. HFFI Applicants will be rated, among other elements, on the extent of community need, the quality of their HFFI strategy, and their capacity to execute their HFFI strategy. The CDFI Fund will collaborate with the other Federal agencies involved in the HFFI prior to making final award selections. The CDFI Fund may, at its discretion, perform additional due diligence on Applicants for this initiative. HFFI-FA awards must be used to support the Applicant's activities; the awards cannot be used to support the activities of, or otherwise be passed through, transferred, or co-awarded to, third-party entities, whether Affiliates, Subsidiaries, or others. The CDFI Fund reserves the right to limit the portion of HFFI-FA awards that may be applied to Capital Reserves or Operations uses.

3. TA Grants:

(a) The CDFI Fund provides TA as a grant and reserves the right, in its sole discretion, to provide a grant for uses and amounts other than that which the Applicant requests; however, the grant amount will not exceed the Applicant's request as stated in its application and the applicable budget chart.

(b) For purposes of this NOFA, TA eligible uses are: (i) Personnel/salary; (ii) personnel/fringe; (iii) professional services; (iv) travel; (v) training; (vi) equipment; (vii) materials/supplies; and (viii) other. (Please see the CDFI Program Application, Part III for details of TA uses.) TA awards must be used to support the Applicant's capacity building activities. TA awards cannot be used to support the activities of, or otherwise be passed through, transferred, or co-awarded to, third-party entities, whether Affiliates, Subsidiaries, or others.

C. Assistance Agreement: Each Awardee under this NOFA must sign an Assistance Agreement before the CDFI Fund will disburse an award or grant. The Assistance Agreement contains the terms and conditions of the award. For further information, see Section VI.A of this NOFA.

III. Eligibility Information

A. Eligible Applicants

The Regulations specify the eligibility requirements each Applicant must meet in order to be eligible to apply for assistance under this NOFA. Applicants may apply as either a FA applicant or a TA applicant, but not both. If an Applicant applies for both, the CDFI Fund reserves the right to disqualify the Applicant from competing for either a FA or a TA award or to decide to give the Applicant either a FA award or a TA grant.

1. FA Applicant Categories: All FA Applicants must meet the criteria for one of the following two categories listed in Table 2. (Any Applicant requesting FA funding in excess of the allowable amount for Category I will be classified as a Category II Applicant, regardless of its total assets, years in operation, or prior CDFI Fund awards.)

Table 2—FA Applicant Criteria
FA applicant category | Applicant criteria | Applicant may apply for:
Category I/Small and/or Emerging CDFI Assistance (SECA) | (1) Is a Certified/Certifiable CDFI; | Up to and including $600,000 in FA funds.
| (2) As of the end of the Applicant's most recent fiscal year end or September 30, 2010, has total assets as follows:
| • Insured Depository Institutions and Depository Institution Holding Companies: up to $250 million |
| • Insured Credit Unions: up to $10 million; |
| • Venture capital funds: up to $10 million; |
| • Other CDFIs: up to $5 million; OR |
| (3) Began operations* on or after January 1, 2007. |
Category II/Core/HFFI | A Certified/Certifiable CDFI that meets all other eligibility requirements described in this NOFA. | Up to and including $2 million in FA funds; and up to and $5 million or more in FA funds under the HFFI.
* The term “began operations” is defined as the financing activity start date indicated in the Applicant's myCDFIFund account.

2. TA Applicants: All TA Applicants must meet the following criteria:

Table 3—TA Applicant Criteria
Applicant type | Criteria of applicant | Applicant can apply for:
TA | A Certified CDFI, a Certifiable CDFI, or an Emerging CDFI | Up to $100,000 in TA funds.

3. CDFI Certification Requirements: For purposes of this NOFA, eligible FA Applicants include Certified CDFIs and Certifiable CDFIs; eligible TA Applicants include Certified CDFIs, Certifiable CDFIs, and Emerging CDFIs, defined as follows:

(a) Certified CDFIs: A Certified CDFI is an entity that has received official notification from the CDFI Fund that it meets all CDFI certification requirements as of this NOFA's publication date. CDFIs that have received official notification from the CDFI Fund that their certification has expired or been terminated are not eligible to apply as Certified CDFIs. In cases where the CDFI Fund provided certified CDFIs with written notification that their certifications had been extended, the CDFI Fund will consider the extended certification dates to determine whether those certified CDFIs meet this eligibility requirement. Certified Applicants must submit a Certification of Material Events form if they have experienced a material event. A “material event” is an occurrence that affects an organization's strategic direction, mission, or business operation and, thereby, its status as a Certified CDFI and/or its compliance with the terms and conditions of an Assistance Agreement. Please see Section IV in this NOFA for deadlines to submit certification application and material events forms. The material events form can be found on the CDFI Fund's Web site at http://www.cdfifund.gov.

(b) Certifiable CDFIs: A Certifiable CDFI is an entity that has submitted an application to the CDFI Fund demonstrating that it meets the CDFI certification requirements but the CDFI Fund has not yet officially certified the entity. If the CDFI Fund is unable to certify an Applicant and the Applicant is selected for a FA award, the CDFI Fund may, in its sole discretion, terminate the award commitment. The CDFI Fund will not enter into an Assistance Agreement or disburse FA award funds unless and until an Applicant is a Certified CDFI. The CDFI Certification application can be found on the CDFI Fund's Web site at http://www.cdfifund.gov.

(c) Emerging CDFIs: An Emerging CDFI is an entity that demonstrates to the CDFI Fund it has an acceptable plan to become a Certified CDFI by December 31, 2013, or another date selected by the CDFI Fund. Emerging CDFIs may only apply for TA grants; they are not eligible to apply for FA awards. Each Emerging CDFI that is selected to receive a TA grant will be required, pursuant to its Assistance Agreement with the CDFI Fund, to become certified as a CDFI by a specified date.

4. Limitation on Awards: An Applicant may receive only one award through the FY 2011 CDFI Program Funding Round or the FY 2011 NACA Funding Round. An Applicant may also receive a FY 2011 Bank Enterprise Award (BEA) Program award for any activities not funded by a CDFI Program award. A CDFI Program Applicant, its Subsidiaries, or Affiliates may also apply for and receive a tax credit allocation (referred to in this NOFA as an Allocatee) through the New Markets Tax Credit (NMTC) Program, but only to the extent that the activities approved for CDFI Program awards are different from those activities for which the Applicant or Allocatee receives a NMTC Program allocation.

B. Prior Awardees

For purposes of this section, the CDFI Fund will consider an Affiliate to be any entity that meets the definition of Affiliate in the Regulations or any entity otherwise identified as an Affiliate by the Applicant in its funding application and/or its myCDFI Fund account. Prior awardees should note the following:

1. $5 Million Funding Cap: Congress waived the $5 million funding cap for the FY 2009 and the FY 2010 Funding Rounds, and it is possible that the $5 million funding cap may be waived for the FY 2011 Funding Round. As of the publication date of this NOFA, however, such a waiver has not been enacted into law. Accordingly, the CDFI Fund is currently prohibited from obligating more than $5 million in assistance, in the aggregate, to any one organization and its Subsidiaries and Affiliates during any three-year period. In general, the three-year period calculated for the cap extends back three years from the Effective Date of the Assistance Agreement between the Awardee and the CDFI Fund. For purposes of this NOFA, the CDFI Fund will include any assistance in the cap that was/will be provided to an Applicant between July 31, 2008 and July 31, 2011, the anticipated date the CDFI Fund expects to issue Assistance Agreements for the FY 2011 Funding Round. Since Congress may issue a waiver of the cap, Applicants that are eligible to receive awards under this NOFA but would exceed the $5 million funding cap if selected for a FY 2011 award, should submit an application under this NOFA. The CDFI Fund will assess the $5 million funding cap applicability during the award selection phase if a Congressional waiver has not been enacted by that time.

2. Failure to Meet Reporting Requirements: The CDFI Fund will not consider an Applicant's application if the Applicant, or an Affiliate of the Applicant, is a prior Awardee/Allocatee under any CDFI Fund program and is not current on the reporting requirements set forth in a previously executed assistance, allocation, or award agreement(s), as of this NOFA's application deadline. The CDFI Fund only acknowledges receipt of reports that are complete; incomplete reports or reports that are deficient of required elements will not be considered as having been received.

3. Pending Resolution of Noncompliance: If the Applicant, or an Affiliate of the Applicant is a prior Awardee/Allocatee under any CDFI Fund program and if: (i) The entity has submitted reports to the CDFI Fund indicating noncompliance with a previously executed agreement with the CDFI Fund, and (ii) the CDFI Fund has yet to make a final determination as to whether the entity is in default of its previously executed agreement, it is in the CDFI Fund's sole discretion to consider the Applicant's application pending until full resolution of the noncompliance issue.

4. Default Status: If an Applicant or Affiliate of the Applicant is a prior Awardee/Allocatee under any CDFI Fund program and is in default of a previously executed agreement with the CDFI Fund at the time that the application is due under this NOFA, the application will not be considered for funding. Such entities will be ineligible to apply for an award under this NOFA as long as the Applicant or an Affiliate of the Applicant's prior award or allocation remains in default status or such other time period as the CDFI Fund has specified in writing.

5. Termination in Default: The CDFI Fund will not consider an application submitted by an Applicant, or an Affiliate of the Applicant that is a prior Awardee/Allocatee under any CDFI Fund program if the CDFI Fund made a final determination that the Awardee/Allocatee's prior award was terminated in default: (i) Within the 12-month period prior to this NOFA's application deadline, and (ii) the final reporting period end date for the applicable terminated award falls within the 12-month period prior to this NOFA's application deadline.

6. Undisbursed Award Funds: The CDFI Fund will not consider an Applicant's application if the Applicant or an Affiliate of the Applicant is a prior Awardee under any CDFI Fund program and has undisbursed award funds (as defined below) as of this NOFA's application deadline. The CDFI Fund will include the combined undisbursed prior awards, as of this NOFA's application deadline, of the Applicant and affiliated entities, including those in which the affiliated entity Controls the Applicant, is Controlled by the Applicant, or shares common management officials with the Applicant as determined by the CDFI Fund.

For the BEA Program, undisbursed award funds will be included in the calculation of undisbursed awards for the Applicant (and any Affiliates) three to five calendar years prior to the end of the calendar year of this NOFA's application deadline. Thus, for purposes of this NOFA, undisbursed awards made in FYs 2005, 2006, and 2007 will be included in the calculation for the Applicant's undisbursed award amounts if the funds have not been disbursed as of this NOFA's application deadline.

The CDFI and NACA Programs' undisbursed funds will be calculated by adding all undisbursed award amounts made to the Applicant (and any Affiliate(s)) two to five calendar years prior to the end of the calendar year of this NOFA. Therefore, undisbursed CDFI Program and NACA awards made in FYs 2005, 2006, 2007, and 2008 will be included in the undisbursed calculation as of this NOFA's application deadline.

Undisbursed awards can not exceed five percent of the total includable awards for the Applicant's BEA/CDFI/NACA awards, as of this NOFA's application deadline. (The total “includable” award amount is the total award amount from the relevant CDFI Fund program.) Please refer to an example of this calculation on the CDFI Fund's Web site, found in the Q&A document for the FY 2011 Funding Round.

The “undisbursed award funds” calculation does not include: (i) Tax credit allocation authority made available through the NMTC Program; (ii) award funds that the Awardee has requested from the CDFI Fund by submitting a full and complete disbursement request before this NOFA's application deadline; (iii) award funds for an award that the CDFI Fund has terminated or de-obligated; or (iv) award funds for an award that does not have a fully executed assistance or award agreement. The CDFI Fund encourages Applicants to request their undisbursed funds from the CDFI Fund at least 10 business days prior to this NOFA's application deadline.

7. Contact the Fund: Applicants that are prior CDFI Fund Awardees are advised to: (i) Comply with requirements specified in assistance, allocation, and/or award agreement(s), and (ii) contact the CDFI Fund to ensure that all necessary actions are underway for the disbursement or de-obligation of any outstanding balance of prior award(s) as referenced above. An Applicant that is unsure about the disbursement status of any prior award should contact the CDFI Fund by sending an e-mail to CDFI.disburseinquiries@cdfi.treas.gov.

8. Other Targeted Populations as Target Markets: Other Targeted Populations are defined as identifiable groups of individuals in the Applicant's service area for which there exists strong evidence that they lack access to loans, equity investments, and/or Financial Services. The CDFI Fund has determined there is strong evidence that the following groups of individuals lack access to such products and services on a national level or within their recognized ancestral areas: (i) Native Americans or American Indians, including Alaska Natives living in Alaska; (ii) Blacks or African Americans; (iii) Hispanics or Latinos; (iv) Native Hawaiians living in Hawaii; and (v) other Pacific Islanders living in other Pacific Islands. An Applicant designating any of the above-cited Other Targeted Populations is not required to provide additional narrative explaining their lack of access to loans, equity investments, or Financial Services. To define these populations for the purposes of this NOFA, the CDFI Fund is using the following definitions, set forth in the Office of Management and Budget (OMB) Notice, Revisions to the Standards for the Classification of Federal Data on Race and Ethnicity (October 30, 1997), as amended and supplemented: (a) American Indian, Native American, or Alaska Native: A person having origins in any of the original peoples of North and South America (including Central America) and who maintains tribal affiliation or community attachment; (b) Black or African American: A person having origins in any of the black racial groups of Africa (terms such as Haitian or Negro can be used in addition to Black or African American); (c) Hispanic or Latino: A person of Cuban, Mexican, Puerto Rican, South or Central American, or other Spanish culture or origin, regardless of race (the term Spanish origin can be used in addition to Hispanic or Latino); (d) Native Hawaiian: A person having origins in any of the original peoples of Hawaii; and (e) Other Pacific Islander: a person having origins in any of the original peoples of Guam, Samoa or other Pacific Islands.

C. Matching Funds

Congress waived the matching funds requirements for the FY 2009 and FY 2010 Funding Rounds, and it is possible that the matching funds requirements may be waived for the FY 2011 Funding Round. As of the publication date of this NOFA, however, such a waiver has not been enacted into law. Accordingly, the CDFI Fund encourages Applicants to include matching funds documentation as instructed in the application. If a matching funds waiver is enacted, the CDFI Fund will not consider matching funds documentation. An Applicant that does not include matching funds documentation in its application runs the risk of being determined to be ineligible for funding under the FY 2011 Funding Round if a matching funds waiver is not enacted. In light of a possible matching funds requirement waiver, an Applicant that would not satisfy the matching funds requirements but is otherwise eligible under this NOFA should submit an application. The CDFI Fund will assess applicability of the matching funds requirements during the award selection phase if Congress has not enacted a waiver by that time. Accordingly, subject to the immediately preceding paragraph:

1. FA Applicants must obtain non-Federal matching funds, on the basis of not less than one dollar for each dollar of FA funds the CDFI Fund provides. (This requirement pertains to FA Applicants only; matching funds are not required for TA Applicants). Matching funds must be comparable in form and value to the CDFI Fund's FA award. For example, if an Applicant is requesting a FA award, the Applicant must show it has obtained matching funds through commitment(s) from non-Federal sources that are equal to the amount requested from the CDFI Fund. Applicants cannot use matching funds from a prior FA award under the NACA or CDFI Program or under another Federal grant or award program to satisfy the matching funds requirement of this NOFA. If an Applicant seeks to use matching funds from an organization that was a prior Awardee under the NACA or CDFI Program, the CDFI Fund will deem such funds as Federal funds, unless the funding entity establishes and the CDFI Fund agrees, that such funds do not consist, in whole or in part, of NACA or CDFI Program funds or other Federal funds. The CDFI Fund encourages Applicants to review the Regulations at 12 CFR 1805.500 et seq. and matching funds guidance materials on the CDFI Fund's Web site for further information.

2. The CDFI Fund will not consider any FA Applicant for an award that has no matching funds in-hand or firmly committed as of this NOFA's application deadline. Specifically, FA Applicants must meet the following matching funds requirements:

(a) Category I/SECA Applicants: A Category I/SECA Applicant must demonstrate that it has eligible matching funds equal to no less than 25 percent of the FA amount requested in-hand or firmly committed, on or after January 1, 2009, and on or before the application deadline. The CDFI Fund reserves the right to rescind all or a portion of a FA award and re-allocate the rescinded award amount to other qualified Applicant(s), if an Applicant fails to obtain in-hand 100 percent of the required matching funds by March 14, 2012 (with required documentation of such receipt received by the CDFI Fund not later than March 31, 2012), or to grant an extension of such matching funds deadline for specific Applicants selected to receive FA awards, if the CDFI Fund deems it appropriate. For any Applicant that demonstrates it has less than 100 percent of matching funds in-hand or firmly committed as of the application deadline, the CDFI Fund will evaluate the Applicant's ability to raise the remaining matching funds by March 14, 2012.

(b) Category II/Core Applicants: A Category II/Core Applicant must demonstrate that it has eligible matching funds equal to no less than 100 percent of the amount of the FA award requested in-hand or firmly committed, on or after January 1, 2009 and on or before the application deadline. The CDFI Fund reserves the right to rescind all or a portion of a FA award and re-allocate the rescinded award amount to other qualified Applicant(s), if an Applicant fails to obtain in-hand 100 percent of the required matching funds by March 14, 2012 (with required documentation of such receipt received by the CDFI Fund not later than March 31, 2012), or to grant an extension of such matching funds deadline for specific Applicants selected to receive FA, if the CDFI Fund deems it appropriate.

(c) HFFI Applicants: A HFFI Applicant must demonstrate that it has eligible matching funds equal to no less than 25 percent of the FA amount requested in-hand or firmly committed, on or after January 1, 2009, and on or before the deadline for the submitting the HFFI supplemental questionnaire. The CDFI Fund reserves the right to rescind all or a portion of a FA award and re-allocate the rescinded award amount to other qualified Applicant(s), if an Applicant fails to obtain in-hand 100 percent of the required matching funds by March 14, 2012 (with required documentation of such receipt received by the CDFI Fund not later than March 31, 2012), or to grant an extension of such matching funds deadline for specific Applicants selected to receive FA awards, if the CDFI Fund deems it appropriate. For any Applicant that demonstrates it has less than 100 percent of matching funds in-hand or firmly committed as of the application deadline, the CDFI Fund will evaluate the Applicant's ability to raise the remaining matching funds by March 14, 2012.

3. Matching Funds Terms Defined; Required Documentation:

(a) “Matching funds in-hand” means the Applicant has actually received the matching funds. If the matching funds are in-hand, the Applicant must provide the CDFI Fund with acceptable written documentation of the source, form, and amount of the matching funds (i.e., grant, loan, deposit, and equity investment). Applicants must provide the CDFI Fund with copies of the following documentation depending on the type of award: (i) Loans—the loan agreement and promissory note; (ii) grant—the grant letter or agreement for all grants of $50,000 or more; (iii) equity investment—the stock certificate and any related shareholder agreement. Further, if the matching funds are in-hand, the Applicant must provide the CDFI Fund with acceptable documentation that shows receipt of the matching funds, such as a copy of a check or a wire transfer statement.

(b) “Firmly committed matching funds” means the Applicant has entered into or received a legally binding commitment from the matching funds source showing the matching funds will be disbursed to the Applicant. If the matching funds are firmly committed, the Applicant must provide the CDFI Fund with acceptable written documentation showing the source, form, and amount of the firm commitment (and, in the case of a loan, the terms thereof), as well as the anticipated date of disbursement of the committed funds.

4. The CDFI Fund may contact the matching funds source to discuss the matching funds and the documentation that the Applicant has provided. If the CDFI Fund determines that any portion of the Applicant's matching funds is ineligible under this NOFA, the CDFI Fund, in its sole discretion, may permit the Applicant to offer alternative matching funds as a substitute for the ineligible matching funds. In this case: (i) The Applicant must provide acceptable alternative matching funds documentation within two business days of the CDFI Fund's request, and (ii) the alternative matching funds documentation cannot increase the total amount of FA the Applicant requested.

5. Special Rule for Insured Credit Unions: The Regulations allow an Insured Credit Union to use retained earnings to serve as matching funds for a FA award in an amount equal to: (i) The increase in retained earnings that has occurred over the Applicant's most recent fiscal year; (ii) the annual average of such increases that has occurred over the Applicant's three most recent fiscal years; or (iii) the entire retained earnings that have been accumulated since the inception of the Applicant, as provided in the Regulations. For purposes of this NOFA, if option (iii) is used, the Applicant must increase its member and/or non-member shares or total loans outstanding by an amount equal to the amount of retained earnings committed as matching funds. This amount must be raised by the end of the Awardee's second performance period, as set forth in its Assistance Agreement, and will be based on amounts reported in the Applicant's Audited or Reviewed Financial Statements or NCUA Form 5300 Call Report. The CDFI Fund will assess the likelihood of this increase during the application review process. An award will not be made to any Applicant that has not demonstrated in the relevant NCUA call report that it has increased shares or loans by at least 25 percent of the requested FA award amount between December 31, 2009, and December 31, 2010.

IV. Application And Submission Information

A. Application Submission

Under this NOFA, all Applicants must submit their applications electronically through Grants.gov. The CDFI Fund will not accept applications through myCDFIFund accounts nor will applications be accepted via e-mail, mail, facsimile, or other forms of communication, except in circumstances approved by the CDFI Fund beforehand.

B. Grants.gov

In compliance with Public Law 106-107 and Section 5(a) of the Federal Financial Assistance Management Improvement Act, the CDFI Fund is required to accept applications submitted through the Grants.gov electronic system. The CDFI Fund strongly recommends Applicants start the registration process as soon as possible and visit http://www.grants.gov immediately. Applicants that have used Grants.gov in the past must verify that their registration is current and active. New applicants must properly register, which can take weeks to complete. Pursuant to OMB guidance (68 FR 38402), each Applicant must provide, as part of its application submission, a Dun and Bradstreet Data Universal Numbering System (DUNS) number. In addition, each application must include a valid and current Employer Identification Number (EIN). An electronic application that does not include either a DUNS or an EIN is incomplete and runs the risk of not being transmitted to the CDFI Fund from Grants.gov. As a result, Applicants without a DUNS or EIN should allow sufficient time for the IRS and/or Dun and Bradstreet to respond to inquiries and/or requests for identification numbers.

The CDFI Fund will not consider Applicants that fail to properly register in Grants.gov or to confirm they are properly registered. The CDFI Fund will not accept applications from Applicants that are not properly registered in Grants.gov and therefore, unable to submit their application before the deadline. Also, Applicants are reminded that the CDFI Fund does not maintain the Grants.gov registration or submittal process so Applicants must contact Grants.gov directly for issues related to that aspect of the application submission process. Please see the following link for information on getting started on Grants.gov: http://grants.gov/assets/GrantsgovCoBrandBrochure8X11.pdf.

C. MyCDFIFund Accounts

MyCDFIFund is the CDFI Fund's primary means of communication with Applicants so it must be kept updated. All Applicants must register as an organization and as a user with myCDFIFund before the application deadline. Applicants that fail to properly register and update their myCDFIFund accounts run the risk of missing important communication with the CDFI Fund that could impact their application. For more information on myCDFIFund, please see the “Frequently Asked Questions” link posted at https://www.cdfifund.gov/myCDFI/Help/Help.asp.

D. Application Content Requirements

The application and related documents can be found on the Grants.gov and the CDFI Fund's Web sites. The CDFI Fund anticipates posting the application and related documents to the CDFI Fund's Web site on the same day that the NOFA is released or shortly thereafter. Once an application is submitted, the Applicant will not be allowed to change any element of the application. The CDFI Fund, however, may contact the Applicant to clarify or confirm application information.

E. Paperwork Reduction Act

Under the Paperwork Reduction Act (44 U.S.C. chapter 35), an agency may not conduct or sponsor a collection of information, and an individual is not required to respond to a collection of information, unless it displays a valid OMB control number. Pursuant to the Paperwork Reduction Act, the CDFI Program funding application has been assigned the following control number: 1559-0021.

F. Application Deadlines

1. Please see Table 4 for critical deadlines that are relevant to the FY 2011 Funding Round:

Table 4—CDFI Program Application Critical Dates
Description | Date due | Time
Last day to contact Certification staff for assistance | October 20, 2010 | 5:00 p.m.
Certification application | October 22, 2010 | 5:00 p.m.
Certification Material Events Form | October 22, 2010 | 5:00 p.m.
Last day to contact CDFI Program staff for assistance | November 17, 2010 | 5:00 p.m.
Last day to contact CDFI Compliance staff for assistance | November 17, 2010 | 5:00 p.m.
FA Application (Part II of the application) | November 19, 2010 | midnight.
TA Application (Part III of the application) | November 19, 2010 | midnight.
Healthy Food Financing Initiative Questionnaire | To Be Determined | To Be Determined.

2. Late Delivery: The CDFI Fund will neither accept a late application nor any portion of an application that is late; an application that is late, or for which any portion is late, will be rejected. The CDFI Fund will not grant exceptions or waivers. Any application that is deemed ineligible or rejected will not be returned to the Applicant.

G. Intergovernmental Review

Not applicable.

H. Funding Restrictions

For allowable uses of FA proceeds, please see the Regulations at 12 CFR 1805.301.

V. Application Review Information

A. Format

Applicants must complete the application as provided in Grants.gov and the CDFI Fund's Web sites. All applications must be single-spaced and use no smaller than an 11-point font. Each component in the application has page limitations. The CDFI Fund will read only information requested in the application and will not read attachments that have not been specifically requested in this NOFA or the application. Applicants should not submit documents like strategic plans or market studies unless the CDFI Fund has specifically requested such documents in the application.

B. Review and Selection Process

1. Eligibility and Completeness Review: The CDFI Fund will review each application to determine whether it is complete and the Applicant meets the eligibility requirements described in Section III of this NOFA. An incomplete application or one that does not meet eligibility requirements will be rejected at this point.

2. Substantive Review: If the Applicant has submitted a complete and eligible application, the CDFI Fund will conduct a substantive review in accordance with the criteria and procedures described in the Regulations, this NOFA, and the application. The CDFI Fund reserves the right to contact the Applicant by telephone, e-mail, mail, or through an on-site visit for the sole purpose of clarifying or confirming application information. If contacted, the Applicant must respond within the CDFI Fund's time parameters or run the risk of being rejected.

3. Application Scoring and Award Selection (FA and TA Applicants):

(a) Application Scoring: The CDFI Fund will evaluate each application on the four criteria categories and the scoring scale described in the CDFI Program application. An Applicant must receive a minimum score in each evaluation criteria in order to be considered for an award. The CDFI Fund will score each part as indicated in the following table:

Table 5—Application Scoring Criteria
Application parts | Scoring points
Part II. Financial Assistance (FA) Applicants
High Impact Narrative | 10
Target Market Needs | **10
Responsiveness to Target Market Needs | 40
Delivery Capacity | 40
TOTAL POINTS | 100
Part III. Technical Assistance (TA) Applicants
Technical Assistance Proposal | 20
Target Market Needs | **10
Responsiveness to Target Market Needs | 30
Delivery Capacity | 40
TOTAL POINTS | 100
**Includes up to 5 priority points based on distress criteria.

(b) In the FY 2011 Funding Round, the CDFI Fund will allow Applicants to earn up to 5 extra priority points for serving eligible highly distressed Target Markets. Such markets are identified by a distress index based on county-level rankings of high poverty, home foreclosure rates, a high proportion of high cost mortgages (as defined in the Home Ownership and Equity Protection Act [HOEPA] of 1994), high unemployment rates and low median family income. Applicants can identify distressed markets by using the index, which identifies the most distressed counties with the highest rank number. The index is posted to the CDFI Fund's Web site at http://www.cdfifund.gov/distressindex.

(c) Evaluating Prior Award Performance: Prior Awardees/Allocatees of any CDFI Fund program will be deducted points if the Applicant: (i) Is noncompliant with any active award or award that terminated in the current calendar year by failing to meet performance goals and measures, reporting deadlines, and other requirements set forth in the CDFI Fund's assistance or award agreement(s) during the Applicant's two complete fiscal years prior to this NOFA's application deadline; (ii) failed to make timely loan payments to the CDFI Fund during the Applicant's two complete fiscal years prior to this NOFA's application deadline (if applicable); and (iii) did not perform on any prior assistance agreement, which is determined during the application review process. In addition, the CDFI Fund will deduct points if a FA Applicant had funds de-obligated for or from an FA award issued in FY 2008, 2009 or 2010 if: (i) The amount of de-obligated funds is at least $200,000 and (ii) the de-obligation occurred within the 12 months prior to this NOFA's application deadline. Point deductions for a de-obligation in this funding round will not be counted against future FA applications. The CDFI Fund has the sole discretion to deduct points from prior Awardees/Allocates if those Applicants have proceedings instituted against them in, by, or before any court, governmental, agency, or administrative body and has received a final determination within the last three years indicating the Applicant has discriminated on the basis of race, color, national origin, disability, age, marital status, receipt of income from public assistance, religion, or sex.

(d) Award Selection: The CDFI Fund will make its final award selections based on the Applicants' scores, ranked from highest to lowest, and the amount of funds available. In the case of tied scores, Applicants will be ranked according to each Applicant's Community Development Performance and Effective Use scores. TA Applicants, Category I, Category II, and HFFI Applicants will be grouped and ranked separately. In addition, the CDFI Fund may consider the institutional and geographic diversity of Applicants when making its funding decisions.

4. Application Scoring and Award Selection (HFFI-FA Applicants). Only FA Applicants that complete and submit the HFFI questionnaire and that meet minimum established scoring thresholds under Part II of the application may be considered for a HFFI-FA award. Such Applicants will be separately scored based on the HFFI questionnaire. HFFI Applicants will be rated, among other elements, on the extent of community need, the quality of their HFFI strategy, and their capacity to execute their HFFI strategy. To the extent possible, based primarily on the number of applications received, HFFI questionnaires will be evaluated and scored by multiple reviewers. With respect to each HFFI questionnaire reviewed, the reviewer will give equal weight to all elements of the application questionnaire (i.e., each plan will be reviewed holistically—no one element will be weighted more heavily than any other element). HFFI-FA awards will generally be made in descending order of the total aggregate scores of the HFFI questionnaires until the HFFI appropriated dollars are expended. In the case of a tied HFFI ranking score, Applicants will be ranked according to their total aggregate score under Part II of the application. The CDFI Fund reserves the right not to fund an HFFI application if the CDFI Fund has concerns (e.g., based on the review and scoring of Part II of the application) about the Applicant's capacity to implement its HFFI strategy. In addition, the CDFI Fund will consult with other Federal agencies participating in the HFFI prior to making its HFFI-FA awards. Finally, the CDFI Fund may consider the institutional and geographic diversity of Applicants when making its funding decisions.

5. Insured CDFIs: In the case of Insured Depository Institutions and Insured Credit Unions, the CDFI Fund will consider the views of the Appropriate Federal Banking Agencies. Throughout the award review process, the CDFI Fund will consult with the Appropriate Federal Banking Agency about the Applicant's financial safety and soundness. If the Appropriate Federal Banking Agency identifies safety and soundness concerns, the CDFI Fund will assess whether the concerns cause or will cause the Applicant to be incapable of undertaking the activities for which funding has been requested. If it is determined the Applicant is incapable of meeting its obligations, the CDFI Fund reserves the right to deselect the Applicant from receiving an award. The CDFI Fund also reserves the right to require insured CDFI Applicants to improve safety and soundness conditions prior to receiving an award disbursement. In addition, the CDFI Fund will take into consideration Community Reinvestment Act assessments of Insured Depository Institutions and/or their Affiliates.

6. Award Notification: Each Applicant will be informed of the CDFI Fund's award decision through a notification in the Applicant's myCDFIFund account. This includes notification to Applicants that have not been selected for an award if the decision is based on reasons other than completeness or eligibility. Applicants that have not been selected for an award will receive a debriefing in their myCDFIFund account. The CDFI Fund will provide this feedback in a format and within a timeframe depending on available resources.

7. The CDFI Fund reserves the right to reject an application if information (including administrative errors) comes to the CDFI Fund's attention that either adversely affects an Applicant's eligibility for an award, adversely affects the CDFI Fund's evaluation or scoring of an application, or indicates fraud or mismanagement on the Applicant's part. If the CDFI Fund determines any portion of the application is incorrect in a material respect, the CDFI Fund reserves the right, in its sole discretion, to reject the application. The CDFI Fund reserves the right to change its eligibility and evaluation criteria and procedures, if the CDFI Fund deems it appropriate. If the changes materially affect the CDFI Fund's award decisions the CDFI Fund will provide information about the changes through the CDFI Fund's Web site. The CDFI Fund's award decisions are final and there is no right to appeal the decisions.

VI. Award Administration Information

Assistance Agreement: Each Applicant selected to receive an award under this NOFA must enter into an Assistance Agreement with the CDFI Fund in order to receive the award's disbursement. The Assistance Agreement will set forth the award's terms and conditions, including but not be limited to the award's: (i) Amount; (ii) type; (iii) uses; (iv) eligible market to which the funded activity must be targeted; (v) performance goals and measures; and (vi) reporting requirements. Applicants should review the OMB Guidance: Requirements for Federal Funding Accountability and Transparency Act Implementation (75 FR 55663) to ensure that they have processes and systems in place to comply with the reporting obligations. FA Assistance Agreements under this NOFA will usually have three-year performance periods; TA Assistance Agreements will usually have two-year performance periods. If prior to entering into an Assistance Agreement with the CDFI Fund, information (including administrative error) comes to the CDFI Fund's attention that either adversely affects the Awardee's eligibility for an award, or adversely affects the CDFI Fund's evaluation of the Awardee's application, or indicates fraud or mismanagement on the Awardee's part, the CDFI Fund may, in its discretion and without advance notice to the Awardee, terminate the award or take such other actions as it deems appropriate. Moreover, if prior to entering into an Assistance Agreement, the CDFI Fund determines that the Awardee or an Affiliate of the Awardee is in default of any previously executed agreement with the CDFI Fund, the CDFI Fund may, in its discretion and without advance notice to the Awardee, either terminate the award or take such other actions as it deems appropriate. For purposes of this section, the CDFI Fund will consider an Affiliate to mean any entity that meets the definition of Affiliate in the Regulations. The CDFI Fund reserves the right, in its sole discretion, to rescind an award if the Awardee fails to return the Assistance Agreement, signed by the authorized representative of the Awardee, and/or provide the CDFI Fund with any other requested documentation, within the CDFI Fund's deadlines. Each Awardee must provide the CDFI Fund with a good standing certificate (or equivalent documentation) from its state (or jurisdiction) of incorporation.

1. Failure to Meet Reporting Requirements: If an Awardee or an Affiliate of the Awardee is a prior Awardee/Allocatee under any CDFI Fund program and is not current with the reporting requirements set forth in the previously executed agreement(s) with the CDFI Fund, the CDFI Fund reserves the right, in its sole discretion, to delay entering into an Assistance Agreement until the Awardee/Allocatee is current with the reporting requirements. Please note that the CDFI Fund only acknowledges the receipt of reports that are complete. As such, incomplete reports or reports that are deficient of required elements will not be recognized as having been received. If said prior Awardee/Allocatee is unable to meet this requirement within the timeframe the CDFI Fund sets, the CDFI Fund reserves the right, in its sole discretion, to terminate and rescind the Assistance Agreement and the award made under this NOFA.

2. Pending Resolution of Noncompliance: If an Applicant is a prior Awardee or an Affiliate of the Awardee/Allocatee under any CDFI Fund program and if: (i) It has submitted reports to the CDFI Fund that demonstrate noncompliance with a previous executed agreement with the CDFI Fund; and (ii) the CDFI Fund has yet to make a final determination as to whether the entity is in default of its agreement, the CDFI Fund reserves the right, in its sole discretion, to delay entering into an Assistance Agreement, pending full resolution of the noncompliance issue to the CDFI Fund's satisfaction. If the said prior Awardee/Allocatee is unable to satisfactorily resolve the compliance issues, the CDFI Fund reserves the right, in its sole discretion, to terminate and rescind the Assistance Agreement and the award made under this NOFA.

3. Default Status: If, at any time prior to entering into an Assistance Agreement through this NOFA, the CDFI Fund has made a final determination that an Awardee or an Affiliate of the Awardee that is a prior Awardee/Allocatee under any CDFI Fund program is in default of a previously executed assistance, allocation, or award agreement(s), the CDFI Fund reserves the right, in its sole discretion, to delay entering into an Assistance Agreement, until said prior Awardee/Allocatee has submitted a complete and timely report demonstrating full compliance within the CDFI Fund's timeframe. If said prior Awardee/Allocatee is unable to meet this requirement and the CDFI Fund has not specified in writing that the prior Awardee/Allocatee is otherwise eligible to receive an Award under this NOFA, the CDFI Fund reserves the right, in its sole discretion, to terminate and rescind the Assistance Agreement and the award made under this NOFA.

4. Termination in Default: The CDFI Fund reserves the right, in its sole discretion, to delay entering into or not to enter into an Assistance Agreement if: (i) Within the 12-month period prior to entering into an Assistance Agreement for this funding round, the CDFI Fund has made a final determination that a prior Awardee or an Affiliate of the Awardee under any CDFI Fund program whose award or allocation agreement was terminated in default, and (ii) the final reporting period end date for the applicable terminated agreement falls within the 12-month period prior to this NOFA's application deadline.

5. Compliance with Federal Anti-Discrimination Laws: If the Awardee has previously received funding through any CDFI Fund program, and if at any time prior to entering into an Assistance Agreement through this NOFA, the CDFI Fund is made aware of a final determination, made within the last three years, in any proceeding instituted against the Awardee in, by, or before any court, governmental, or administrative body or agency, declaring that the Awardee has discriminated on the basis of race, color, national origin, disability, age, marital status, receipt of income from public assistance, religion, or sex, the CDFI Fund reserves the right, in its sole discretion, to terminate and rescind the Assistance Agreement and the award made under this NOFA.

B. Reporting

1. Reporting requirements: At least on an annual basis, the CDFI Fund will collect information from each Awardee including, but not limited to, an Annual Report with the following components: (i) Financial Reports (including an OMB A-133 audit); (ii) Institution Level Report; (iii) Transaction Level Report (for Awardees receiving FA awards); (iv) Financial Status Report form SF-269/SF-425 (for Awardees receiving TA grants); (v) Uses of Financial Assistance (for Awardees receiving FA awards); (vi) Explanation of Noncompliance (as applicable); and (vii) such other information as the CDFI Fund may require. Each Awardee is responsible for the timely and complete submission of the Annual Report, even if all or a portion of the documents actually is completed by another entity or signatory to the Assistance Agreement. If such other entities or signatories are required to provide Institution Level Reports, Transaction Level Reports, Financial Reports, or other documentation that the CDFI Fund may require, the Awardee is responsible for ensuring that the information submitted is timely and complete. The CDFI Fund reserves the right to contact such additional entities or signatories to the Assistance Agreement and require that additional information and documentation be provided. The CDFI Fund will use such information to monitor each Awardee's compliance with the requirements in the Assistance Agreement and to assess the impact of the CDFI Program. All reports must be electronically submitted to the CDFI Fund via the Awardee's myCDFIFund account. The Institution Level Report and the Transaction Level Report must be submitted through the CDFI Fund's web-based data collection system, the Community Investment Impact System (CIIS). The Financial Reports may be uploaded to the Awardee's myCDFIFund account. All other components of the Annual Report may be submitted electronically, as the CDFI Fund directs. The CDFI Fund reserves the right, in its sole discretion, to modify these reporting requirements if it determines it to be appropriate and necessary; however, such reporting requirements will be modified only after notice to Awardees.

2. Accounting: The CDFI Fund will require each FA and TA Awardee to account for and track the use of its award. This means that FA and TA Awardees must track every dollar and must inform the CDFI Fund of its uses. This will require Awardees to establish separate administrative and accounting controls, subject to the applicable OMB Circulars. The CDFI Fund will provide guidance on the format and content of the annual information to be provided, outlining and describing how the funds were used. All Awardees must provide the CDFI Fund with an accurate and completed Automated Clearinghouse (ACH) form prior to award closing and disbursement.

VII. Agency Contacts

A. The CDFI Fund will respond to questions and provide support concerning this NOFA and the funding application between the hours of 9 a.m. and 5 p.m. ET, starting on the date that the NOFA is published through three business days prior to the application deadline. During the three business days prior to the application deadline, the CDFI Fund will not respond to questions or provide support to Applicants until after the application deadline. Applications and other information regarding the CDFI Fund and its programs may be obtained from the CDFI Fund's Web site at http://www.cdfifund.gov. The CDFI Fund will post on its Web site responses to questions of general applicability regarding the CDFI Program.

B. Applicants may contact the CDFI Fund as follows:

Table 6—Contact Information
[Fax number for all offices: 202-622-7754]
Type of question | Telephone number (not toll free) | E-mail addresses
CDFI Program | 202-622-6355 | cdfihelp@cdfi.treas.gov.
CDFI Certification | 202-622-6355 | cdfihelp@cdfi.treas.gov.
Compliance Monitoring and Evaluation | 202-622-6330 | ccme@cdfi.treas.gov.
Information Technology Support | 202-622-2455 | IThelp@cdfi.treas.gov.

C. Information Technology Support

People who have visual or mobility impairments that prevent them from creating a Target Market map using the CDFI Fund's Web site should call (202) 622-2455 for assistance (this is not a toll free number).

D. Communication With the CDFI Fund

The CDFI Fund will use the Applicants' and Awardees' contact information in their myCDFIFund accounts to communicate. It is imperative, therefore, that Applicants, Awardees, Subsidiaries, Affiliates, and signatories maintain accurate contact information in their accounts.

This includes information like contact names, especially for the authorized representative; e-mail addresses; fax and phone numbers; and office locations. For more information about myCDFIFund, as well as information on the Community Investment Impact System, please see the following Web site: http://www.cdfifund.gov/ciis/accessingciis.pdf.

VIII. Information Sessions and Outreach

The CDFI Fund may conduct webinars or host information sessions for organizations that are considering applying to, or are interested in learning about, the CDFI Fund's programs. For further information, please visit the CDFI Fund's Web site at http://www.cdfifund.gov.

Authority: 12 U.S.C. 4701, et seq; 12 CFR parts 1805 and 1815.

Dated: October 1, 2010.
Donna J. Gambrell,
Director, Community Development Financial Institutions Fund.

[FR Doc. 2010-25236 Filed 10-5-10; 8:45 am]

BILLING CODE 4810-70-P